SUSQUEHANNA RIVER BASIN COMMISSION

General Permit Notice

AGENCY: Susquehanna River Basin Commission.

ACTION: Notice.

SUMMARY: This notice lists General Permits approved by the Susquehanna River Basin Commission during the period set forth in DATES.

DATES: June 1-July 31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax (717) 238-2436; email: joyler@srbc.gov. Regular mail inquiries may be sent to the above address.

SUPPLEMENTARY INFORMATION: This notice lists General Permits for projects, described below, pursuant to 18 CFR 806.17(c)(4), for the time period specified above.

1. Chester County Solid Waste Authority—Lanchester Landfill, General Permit Approval of Coverage No. GP-04-202506012, Caernarvon and Salisbury Townships, Lancaster County, and Honey Brook Township, Chester County, Pa.; Into-Basin Diversion approved up to 0.050 mgd (30-day average) from Well MW-10, Railroad Cut Collection Sump, Well MW-7A Collection Sump, Small Load Collection Sump, and Leachate; Approval Date: June 4, 2025.

2. Pennsylvania Fish & Boat Commission—3C's Trout Nursery, General Permit Approval of Coverage No. GP-03-202506014, West Carroll Township, Cambria County, Pa.; Cooperative Fish Nursery withdrawal approved up to 0.447 mgd (peak day) from Spring Pond; Approval Date: June 16, 2025.

3. West Manchester Township Authority—Well 8, General Permit Approval of Coverage No. GP-02-202506015, West Manchester Township, York County, Pa.; Emergency/Maintenance operations approved up to 0.216 mgd (30-day average); Approval Date: June 18, 2025.

Authority: Public Law 91-575, 84 Stat. 1509 et seq., 18 CFR parts 806 and 808.

Dated: August 11, 2025.
Jason E. Oyler,
General Counsel and Secretary to the Commission.

[FR Doc. 2025-15418 Filed 8-13-25; 8:45 am]

BILLING CODE 7040-01-P